DEPARTMENT OF AGRICULTURE

Submission for OMB Review; Comment Request

March 19, 2014.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: 2014 Evaluation of the Summer Electronic Benefit Transfer for Children (SEBTC) Demonstration.

OMB Control Number: 0584-0559.

Summary of Collection: In the 2010 Agriculture Appropriations Act (Public Law 111-80). Section 7499g), Congress authorized demonstration projects to develop and test methods of providing access to food for low-income children in urban and rural areas during the summer months when schools are not in regular sessions, as well as a rigorous independent evaluation of the projects regarding their effectiveness. The Summer Electronic Benefits for Children (SEBTC) Household-Based Demonstration on Food Insecurity carries out the demonstration projects Congress directed USDA to perform in this section of the Act.

Need and Use of the Information: The 2014 evaluation of SEBTC has two broad objectives (1) to describe the receipt and use of the benefits and (2) to describe the implementation of the SEBTC in terms of approaches used and the challenges and lessons learned during the demonstrations. If this study is not conducted, the Food and Nutrition Service will not have the data necessary to examine how the demonstration sites implemented SEBTC and how the benefits were used by households in 2014, which will be used to produce the required report to Congress and inform future program decisions.

Description of Respondents: State, Local or Tribal Government.

Number of Respondents: 18.

Frequency of Responses: Reporting: Annually.

Total Burden Hours: 16.

Ruth Brown,
Departmental Information Collection Clearance Officer.

[FR Doc. 2014-06341 Filed 3-21-14; 8:45 am]

BILLING CODE 3410-30-P